DEPARTMENT OF EDUCATION

Office of Innovation and Improvement; Overview Information; Excellence in Economic Education Program; Notice Inviting Applications for New Awards for Fiscal Year (FY) 2004

Catalog of Federal Domestic Assistance (CFDA) Number: 84.215B.

Dates:

Applications Available: February 26, 2004.

Deadline for Transmittal of Applications: April 16, 2004.

Deadline for Intergovernmental Review: June 15, 2004.

Eligible Applicants: Any national nonprofit educational organization that has as its primary purpose the improvement of the quality of student understanding of personal finance and economics through effective teaching of economics in grades K-12 in the Nation's classrooms.

Applicants are required to submit evidence of their organization's eligibility.

Estimated Available Funds: $1,481,150.

Maximum Award: We will reject any application that proposes a budget exceeding $1,481,150 for a single budget period of twelve (12) months. The Deputy Under Secretary for Innovation and Improvement may change the maximum amount through a notice published in the Federal Register.

Number of Awards: 1.

Note: The Department is not bound by any estimates in this notice.

Project Period: Up to 60 months.

Budget Period: 12 months.

Full Text of Announcement

I. Funding Opportunity Description

Purpose of Program: This program promotes economic and financial literacy among all students in kindergarten through grade 12 through the award of one grant to a national nonprofit educational organization that has as its primary purpose the improvement of the quality of student understanding of personal finance and economics.

Priorities: This competition includes two absolute priorities and two invitational priorities that are explained in the following paragraphs.

In accordance with 34 CFR 75.105(b)(2)(iv), these priorities are from sections 5533(b), 5534(b), and 5535(b) of the Elementary and Secondary Education Act of 1965, as amended (ESEA) (20 U.S.C. 7267b-7267e).

Absolute Priorities: For FY 2004 these priorities are absolute priorities. Under 34 CFR 75.105(c)(3) we consider only applications that meet both of these priorities.

These priorities are:

Absolute Priority 1—Direct Activities

A project must indicate how it would use 25 percent of the funds available each year to do all of the following activities:

(a) Strengthen and expand the grantee's relationships with State and local personal finance, entrepreneurial, and economic education organizations.

(b) Support and promote training of teachers who teach a grade from kindergarten through grade 12 regarding economics, including the dissemination of information on effective practices and research findings regarding the teaching of economics.

(c) Support research on effective teaching practices and the development of assessment instruments to document student understanding of personal finance and economics.

(d) Develop and disseminate appropriate materials to foster economic literacy.

Absolute Priority 2—Subgrant Activities

A project must indicate how it would use 75 percent of the funds available each year to award subgrants both to (a) State educational agencies (SEAs) or local educational agencies (LEAs), and (b) State or local economic, personal finance, or entrepreneurial education organizations.

(a) Allowable Subgrantee Activities. Applications must indicate that these subgrants are to be used to pay for the Federal share of the cost of enabling the subgrantees to work in partnership with one or more “eligible partners” as described elsewhere in this notice, for one or more of the following purposes:

(1) Collaboratively establishing and conducting teacher training programs that use effective and innovative approaches to the teaching of economics, personal finance, and entrepreneurship. The teacher training programs must—(i) train teachers who teach a grade from kindergarten through grade 12; and (ii) encourage teachers from disciplines other than economics and financial literacy to participate in such teacher training programs, if the training will promote the economic and financial literacy of those teachers' students.

(2) Providing resources to school districts that desire to incorporate economics and personal finance into the curricula of the schools in those districts.

(3) Conducting evaluations of the impact of economic and financial literacy education on students.

(4) Conducting economic and financial literacy education research.

(5) Creating and conducting school-based student activities to promote consumer, economic, and personal finance education (such as saving, investing, and entrepreneurial education) and to encourage awareness and student academic achievement in economics.

(6) Encouraging replication of best practices to promote economic and financial literacy.

(b) Eligible partners for subgrantees under Absolute Priority 2. Applications must indicate that subgrants will be made to an eligible subgrantee to work in partnership with one or more of the following entities:

(1) A private-sector entity.

(2) A State educational agency.

(3) A local educational agency.

(4) An institution of higher education.

(5) An organization promoting economic development.

(6) An organization promoting educational excellence.

(7) An organization promoting personal finance or entrepreneurial education.

(c) Subgrant application process under Absolute Priority 2. (1) Applications must describe the subgrant process the grantee will conduct prior to awarding subgrants.

(2) Applications must provide that the grantee will invite the following types of individuals to review all applications for subgrants and to make recommendations to the grantee on the approval of the applications:

(A) Leaders in the fields of economics and education.

(B) Other individuals as the grantee determines to be necessary, especially members of the State and local business, banking, and finance communities.

In addition to the two absolute priorities under this competition, we are particularly interested in applications that address the following priorities.

Invitational Priorities: For FY 2004 these priorities are invitational priorities. Under 34 CFR 75.105(c)(1) we do not give an application that meets one or both of these invitational priorities a competitive or absolute preference over other applications.

These priorities are:

Invitational Priority 1—Involvement of Business Community

The grantee and subgrantees are strongly encouraged to—

(a) Include interactions with the local business community to the fullest extent possible to reinforce the connection between economic and financial literacy and economic development; and

(b) Work with private businesses to obtain matching contributions for Federal funds and assist subgrantees in working toward self-sufficiency.

Invitational Priority 2—Scientifically Based Evaluation

The grantee is strongly encouraged to propose an evaluation plan that is based on rigorous scientifically based research methods to assess the effectiveness of the project. The purpose of the priority is to allow program participants and the Department to determine whether the project produces meaningful effects on student achievement or teacher performance.

Evaluation methods using an experimental design are best for determining project effectiveness. Thus, the project might use an experimental design under which participants—e.g., students, teachers, classrooms, or schools—are randomly assigned to participate in the project activities being evaluated or to a control group that does not participate in the project activities being evaluated.

If random assignment is not feasible, the project might use a quasi-experimental design with carefully matched comparison conditions. This alternative design attempts to approximate a randomly assigned control group by matching participants—e.g., students, teachers, classrooms, or schools—with non-participants having similar pre-program characteristics.

In cases where random assignment is not possible and an extended series of observations of the outcome of interest precedes and follows the introduction of a new program or practice, regression discontinuity designs might be employed.

For projects that are focused on special populations in which sufficient numbers of participants are not available to support random assignment or matched comparison group designs, single-subject designs such as multiple baseline or treatment-reversal or interrupted time series that are capable of demonstrating causal relationships might be employed.

The proposed evaluation plan should describe how the project evaluator will collect—before the project intervention commences and after it ends—valid and reliable data that measure the impact of participation in the program or in the comparison group.

Waiver of Proposed Rulemaking: Under the Administrative Procedure Act (5 U.S.C. 553) the Department generally offers interested parties the opportunity to comment on selection criteria. Ordinarily, this practice would have applied to the selection criteria in this notice. Section 437(d)(1) of the General Education Provisions Act (GEPA) (20 U.S.C. 1232(d)(1)), however, allows the Secretary to exempt from rulemaking requirements rules governing the first grant competition under a new or substantially revised program authority. This is the first Excellence in Economic Education program grant competition under the ESEA, as amended by the No Child Left Behind Act of 2001. In order to make timely grant awards, the Secretary has decided to forego public comment on the proposed selection criteria under section 473(d)(1) of GEPA. These selection criteria will apply to the FY 2004 grant competition only.

Program Authority: 20 U.S.C. 7267.

Applicable Regulations: The Education Department General Administrative Regulations (EDGAR) in 34 CFR parts 74, 75, 77, 79, 80, 81, 82, 84, 85, 86, 97, 98, and 99.

II. Award Information

Type of Award: Discretionary grant.

Estimated Available Funds: $1,481,150.

Maximum Award: We will reject any application that proposes a budget exceeding $1,481,150 for a single budget period of twelve (12) months. The Deputy Under Secretary for Innovation and Improvement may change the maximum amount through a notice published in the Federal Register.

Number of Awards: 1.

Note: The Department is not bound by any estimates in this notice.

Project Period: Up to 60 months.

Budget Period: 12 months.

III. Eligibility Information

1. Eligible Applicants: Any national nonprofit educational organization that has as its primary purpose the improvement of the quality of student understanding of personal finance and economics through effective teaching of economics in grades K-12 in the Nation's classrooms.

Applicants are required to submit evidence of their organization's eligibility.

2. Cost Sharing or Matching: Subgrant Activities. The recipients of each subgrant are required to match the Federal grant funds with an equal amount of non-Federal funding. The Federal share of each subgrant will be fifty (50) percent of the funded activities. The recipient of the subgrant must pay the other fifty percent in cash or in kind. In kind payment, including plant, equipment, or services, must be fairly evaluated. (20 U.S.C. 7267e(a) and (b)).

Supplement not supplant. Funds provided through this grant must be used to supplement, and not supplant, other Federal, State, and local funds expended to support activities that fulfill the purpose of this program. (20 U.S.C. 7267f).

IV. Application and Submission Information

1. Address to Request Application Package: Carolyn J. Warren, U.S. Department of Education, 555 New Jersey Avenue, NW., room 502K, Washington, DC 20208-5645. Telephone: (202) 219-2206 or by e-mail: carolyn.warren@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for this competition. Page Limit: The application narrative is where you, the applicant, address the selection criteria that reviewers use to evaluate your application. It is strongly suggested that you limit the narrative of your application to the equivalent of no more than 25 pages, using the following standards:

• A “page” is 8.5″ x 11″, on one side only, with 1” margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to the cover sheet; the budget section, including the narrative budget justification; the assurances and certifications; or the one-page abstract, the resumes, the bibliography, the evidence of eligibility, or the letters of support. However, you must include all of the information addressing the selection criteria and the priorities in the narrative section of the application.

3. Submission Dates and Times:

Applications Available: February 26, 2004. Deadline for Transmittal of Applications: April 16, 2004.

Note: We are requiring that applications for grants under this program be submitted electronically using the Electronic Grant Application System (e-Application) available through the Department's e-GRANTS system. For information about how to access the e-GRANTS system or to request a waiver of the electronic submission requirement, please refer to Section IV, item 6, Other Submission Requirements, in this notice.

The application package for this program specifies the hours of operation of the e-Application Web site. If you are requesting a waiver of the electronic submission requirement, the dates and times for the transmittal of applications by mail or by hand (including a courier service or commercial carrier) are also in the application package.

We do not consider an application that does not comply with the deadline requirements.

Deadline for Intergovernmental Review: June 15, 2004.

4. Intergovernmental Review: This competition is subject to Executive Order 12372 and the regulations in 34 CFR part 79. Information about Intergovernmental Review of Federal Programs under Executive Order 12372 is in the application package for this competition.

5. Funding Restrictions: Twenty-five (25) percent of the grant funds must be used for Direct Activities as described in Absolute Priority 1. (20 U.S.C. 7267b(b)(1)).

Seventy-five (75) percent of the grant funds must be used for Subgrant Activities as described in Absolute Priority 2. (20 U.S.C. 7267b(b)(2)).

The grantee and each subgrantee may use not more than five (5) percent of their grant funds for administrative costs. (20 U.S.C. 7267d(a)).

We reference regulations outlining other funding restrictions in the Applicable Regulations section of this notice.

6. Other Submission Requirements: Instructions and requirements for the transmittal of applications by mail or by hand (including a courier service or commercial carrier) are in the application package for this competition.

Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for grants under Excellence in Economic Education Program—CFDA Number 84.215B—be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Carolyn J. Warren, U.S. Department of Education, 555 New Jersey Avenue, NW., room 502K, Washington, DC 20208-5645. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications

We are continuing to expand our pilot project for electronic submission of applications to include additional formula grant programs and additional discretionary grant competitions. The Excellence in Economic Education Program—CFDA Number 84.215B—is one of the programs included in the pilot project. If you are an applicant under Excellence in Economic Education Program, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC, time, on the application deadline date; or

(b) The e-Application system is unavailable for any period of time during the last hour of operation (that is, for any period of time between 3:30 p.m. and 4:30 p.m., Washington, DC, time) on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-GRANTS help desk at 1-888-336-8930.

You may access the electronic grant application for the Excellence in Economic Education Program at http://e-grants.ed.gov.

V. Application Review Information

Selection Criteria: The selection criteria for this competition are as follows:

1. Quality of the Project Design—20 Points

In determining the quality of the design of the proposed project, the Secretary considers the extent to which the proposed project represents an exceptional approach to the priorities established for the competition.

2. Quality of Project Services—30 Points

In determining the quality of the project services of the proposed project, the Secretary considers the following factors:

(a) The extent to which the training or professional development services to be provided by the proposed project are of sufficient quality, intensity, and duration to lead to improvements in practice among the recipients of those services.

(b) The likelihood that the services to be provided by the proposed project will lead to improvements in the achievement of students as measured against rigorous academic standards.

(c) The extent to which the services to be provided by the proposed project involve the collaboration of appropriate partners for maximizing the effectiveness of project services.

3. Quality of the Management Plan—20 Points

In determining the quality of the management plan of the proposed project, the Secretary considers the adequacy of the management plan to achieve the objectives of the proposed project on time and within budget, including clearly defined responsibilities, timelines, and milestones for accomplishing project tasks.

4. Quality of Project Personnel—10 Points

In determining the quality of the project personnel of the proposed project, the Secretary considers the qualifications, including relevant training and experience, of the project director and key personnel.

5. Quality of Project Evaluation—20 Points

In determining the quality of the evaluation plan of the proposed project, the Secretary considers the following factors:

(a) The extent to which the methods of evaluation include the use of objective performance measures that are clearly related to the intended outcomes of the project and will produce quantitative and qualitative data to the extent possible.

(b) The extent to which the evaluation will provide guidance about effective strategies suitable for replication or testing in other settings.

Note: The Department notes that the grantee can, as authorized by section 5533(a)(2)(C) of the ESEA, award subgrants to conduct evaluations and to collect the information needed for implementation of the performance measure discussed elsewhere in this notice.

Factors Applicants May Wish To Consider in Developing an Evaluation Plan. A strong evaluation plan should be included in the application narrative and should be used, as appropriate, to shape the development of the project from the beginning of the grant period. The plan should include benchmarks to monitor progress toward specific project objectives and also outcome measures to assess the impact on teaching and learning or other important outcomes for project participants. More specifically, the plan should, where possible, identify the individual and/or organization that has agreed to serve as evaluator for the project and describe the qualifications of that evaluator. The plan should describe the evaluation design, indicating:

(1) What types of data will be collected.

(2) When various types of data will be collected.

(3) What methods will be used.

(4) What instruments will be developed and when.

(5) How the data will be analyzed.

(6) When reports of results and outcomes will be available.

(7) How the applicant will use the information collected through the evaluation to monitor progress of the funded project and to provide accountability information both about success at the initial site and effective strategies for replication in other settings.

Applicants are encouraged to devote an appropriate level of resources to project evaluation.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: The percentage of students of teachers trained under the grant project that demonstrate an improved understanding of personal finance and economics as compared to similar students whose teachers have not had the training provided by this project. The grantee under this program will be required to collect and report these data to the Department, and applicants are strongly encouraged to design their proposed project evaluations around this performance measure.

VII. Agency Contact

FOR FURTHER INFORMATION CONTACT: Carolyn J. Warren, U.S. Department of Education, 555 New Jersey Avenue, NW., room 502K, Washington, DC 20208-5645. Telephone: (202) 219-2206 or by e-mail: carolyn.warren@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at www.gpoaccess.gov/nara/index.html.

Dated: February 20, 2004.
Nina Shokraii Rees,
Deputy Under Secretary for Innovation and Improvement.

[FR Doc. 04-4298 Filed 2-25-04; 8:45 am]

BILLING CODE 4000-01-P